NUCLEAR REGULATORY COMMISSION

[Docket Number 030-20567]

Notice of Availability of Environmental Assessment and Finding of No Significant Impact for Issuance of a License Renewal for Byproduct Material License No. 24-21362-01 for American Radiolabeled Chemicals, Inc., St. Louis, MO

AGENCY: Nuclear Regulatory Commission.

ACTION: Notice of availability of Environmental Assessment and Finding of No Significant Impact.

FOR FURTHER INFORMATION CONTACT: William Snell, Division of Nuclear Materials Safety, U.S. Nuclear Regulatory Commission, Region III, 2443 Warrenville Road, Lisle, Illinois 60532; telephone (630) 829-9871; or by e-mail at wgs@nrc.gov.

SUPPLEMENTARY INFORMATION:

I. Introduction

The U.S. Nuclear Regulatory Commission (NRC) is considering the renewal of Byproduct Material License No. 24-21362-01 issued to American Radiolabeled Chemicals, Inc. (the licensee), in St. Louis, Missouri.

The NRC staff has prepared this environmental assessment (EA) to support this licensing action in accordance with the requirements of 10 CFR Part 51. Based on the EA, the NRC has concluded that a Finding of No Significant Impact (FONSI) is appropriate. The amendment will be issued following the publication of this Notice.

II. Environmental Assessment Summary

The proposed action is to renew Byproduct Material License No. 24-21362-01 issued to the American Radiolabeled Chemicals, Inc. in St. Louis, Missouri. American Radiolabeled Chemicals is licensed to possess byproduct materials to be used in the manufacture and synthesis of radiolabeled chemicals. The licensee primarily uses tritium (H-3) and carbon-14 (C-14), and as a result of licensed activities releases curie quantities of H-3 and C-14 in airborne effluent releases. American Radiolabeled Chemicals, Inc. requested by letter to the NRC dated October 28, 2002, the renewal of Byproduct Material License No. 24-21362-01, which would have expired on November 30, 2002. The American Radiolabeled Chemicals, Inc. provided radiological airborne effluent release data, radiological air sampling data, and computational results to demonstrate compliance with 10 CFR 20.1201, “Occupational Dose Limits for Adults,” and 10 CFR 20.1301, “Dose Limits for Individual Members of the Public.” No licensee activities are required to complete the proposed action. The NRC staff has reviewed the radiological airborne effluent release data, radiological air sampling data, and computational results provided by American Radiolabeled Chemicals to ensure the NRC's decision is protective of public health and safety and the environment.

III. Finding of No Significant Impact

The staff has prepared the EA, summarized above, in support of American Radiolabeled Chemicals, Inc.'s request to renew Byproduct Material License No. 24-21362-01. Based on its review, the staff has determined that there are no radiological or non-radiological environmental impacts associated with the renewal of American Radiolabeled Chemicals, Inc.'s license. The staff also finds that American Radiolabeled Chemicals demonstrated compliance with the occupational dose limits for adults in 10 CFR 20.1201 and the dose limits for individual members of the public in 20.1301, and finds no other activities in the area that could result in cumulative impacts. On the basis of the EA, the staff has concluded that the environmental impacts from the proposed action would not be significant. Accordingly, the staff has determined that a FONSI is appropriate, and has determined that the preparation of an Environmental Impact Statement is not warranted.

IV. Further Information

In accordance with 10 CFR 2.390 of the NRC's “Rules of Practice,” American Radiolabeled Chemicals, Inc.'s request, the EA summarized above, and the documents related to this proposed action, are available electronically for public inspection and copying from the Publicly Available Records (PARS) component of NRC's document system (ADAMS). The NRC's document system is accessible from the NRC Web site at http://www.nrc.gov/reading-rm/adams.html. These documents include American Radiolabeled Chemicals' letter dated October 28, 2002, (Accession No. ML041540462); and the EA summarized above (Accession No. ML041680276). These documents may also be viewed electronically on the public computers located at the NRC's Public Document Room (PDR), O 1 F21, One White Flint North, 11555 Rockville Pike, Rockville, MD 20852. The PDR reproduction contractor will copy documents for a fee. Persons who do not have access to ADAMS or who encounter problems in accessing the documents located in ADAMS, should contact the NRC PDR reference staff by telephone at 1-800-397-4209 or (301) 415-4737, or by e-mail to pdr@nrc.gov.

Dated at Lisle, Illinois, this 17th day of June 2004.
Kenneth G. O'Brien,
Chief, Decommissioning Branch, Division of Nuclear Materials Safety, RIII.

[FR Doc. 04-14907 Filed 6-30-04; 8:45 am]

BILLING CODE 7590-01-P